DEPARTMENT OF TRANSPORTATION

Federal Aviation Administration

14 CFR Part 71

[Airspace Docket No. 98-AAL-15]

RIN 2120-AA66

Establishment of Colored Federal Airways; AK

AGENCY: Federal Aviation Administration (FAA), DOT.

ACTION: Final rule.

SUMMARY: This action establishes 13 colored Federal airways located in Alaska (AK) to improve the management of air traffic operations and to enhance safety.

EFFECTIVE DATE: 0901 UTC, June 15, 2000.

FOR FURTHER INFORMATION CONTACT: Joseph C. White, Airspace and Rules Division, ATA-400, Office of Air Traffic Airspace Management, Federal Aviation Administration, 800 Independence Avenue, SW., Washington, DC 20591; telephone: (202) 267-8783.

SUPPLEMENTARY INFORMATION:

Background

On January 14, 1999, the FAA proposed to amend 14 CFR part 71 (part 71) to establish 17 colored Federal airways, G-1, G-2, G-3, G-4, G-16, G-17, G-18, G-19, R-1, R-2, A-7, B-1, B-2, B-4, B-5, B-7, and B-8 in Alaska (64 FR 2450). Interested parties were invited to participate in this rulemaking by submitting written comments on the proposal to the FAA. No comments were received.

Following the publication of the notice, flight inspections of the 17 colored Federal airways were performed. Six of the proposed colored Federal airways (A-7, B-2, B-5, B-8, G-2, and G-16) met navigational requirements without any changes. Seven colored Federal airways (B-4, G-1, G-4, G-17, G-18, R-1, and R-2) required legal description changes to meet navigational requirements. Four colored Federal airways (B-1, B-7, G-3, and G-19) have been deleted from the proposal as they did not pass flight check. Except for editorial changes, the correction of the descriptions for B-4, G-1, G-4, G-17, G-18, R-1, and R-2, and the deletion of B-1, B-7, G-3, and G-19, this amendment is the same as that proposed in the notice.

Colored Federal airways are published in paragraph 6009 of FAA Order 7400.9G, dated September 1, 1999, and effective September 16, 1999, which is incorporated by reference in 14 CFR 71.1. The colored Federal airways listed in this document will be published subsequently in the order.

The Rule

This action amends part 71 by establishing 13 colored Federal airways, G-1, G-2, G-4, G-16, G-17, G-18, R-1, R-2, A-7, B-2, B-4, B-5, and B-8, in Alaska.

Prior to this action there were a number of uncharted nonregulatory routes that used the same routings as the colored Federal airways in this rule, with the exception of G-16, G-17, and G-18. The latter airways are being adopted, as proposed, as a result of the commissioning of nondirectional radio beacons at Atqasuk, Wainwright, and Nuiqsut, AK. Those nonregulatory routings were used daily by air carrier and general aviation aircraft. The FAA is taking this action to establish these 13 colored Federal airways for the following reasons: (1) The conversion of these uncharted nonregulatory routes to colored Federal airways will add to the instrument flight rules (IFR) airway and route infrastructure in Alaska; (2) pilots will be provided with minimum en route altitudes and minimum obstruction clearance altitudes information; (3) this amendment will establish controlled airspace, thus eliminating some of the commercial IFR operations in uncontrolled airspace; and (4) addition of these routes will improve the management of air traffic operations and thereby enhance safety. Additionally, this action corrects the descriptions of B-4, G-1, G-4, G-17, G-18, R-1, and R-2 to meet flight inspection requirements.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Colored Federal airways are published in paragraph 6009 of FAA Order 7400.9G, dated September 1, 1999, and effective September 16, 1999, which is incorporated by reference in 14 CFR 71.1. The colored Federal airways listed in this document will be published subsequently in the Order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9G, Airspace Designations and Reporting Points, dated September 1, 1999, and effective September 16, 1999, is amended as follows:

Paragraph 6009(a)-Green Federal Airways

* * * * *

G-1 [New]

From Mt. Moffett, AK, NDB; INT Elfee, AK, NDB 253° and Dutch Harbor, AK, NDB 360°; INT Elfee, AK, NDB 253° and Cold Bay VORTAC 82 DME; to Elfee, AK, NDB.

G-2 [New]

From Borland, AK, NDB; to Woody Island, AK, NDB.

* * * * *

G-4 [New]

From Wood River, AK, NDB; to Iliamna, AK, NDB.

* * * * *

G-16 [New]

From Point Lay, AK, NDB; Wainwright Village, AK, NDB; Browerville, AK, NDB; Nuiqsut Village, AK, NDB; to Put River, AK, NDB.

G-17 [New]

From Wainwright Village, AK, NDB; to Atqasuk, AK, NDB.

G-18 [New]

From Hotham, AK, NDB; Point Lay, AK, NDB; to Atqasuk, AK, NDB.

* * * * *

Paragraph 6009(b)—Red Federal Airways

* * * * *

R-1 [New]

From St. Paul Island, AK, NDB 20 AGL; INT Saldo, AK NDB 262° and Cape Newenham, AK NDB, 131°; to Saldo, AK, NDB.

R-2 [New]

From Elfee, AK, NDB; to Port Heiden, AK, NDB.

* * * * *

Paragraph 6009(c)—Amber Federal Airways

* * * * *

A-7 [New]

From Campbell Lake, AK, NDB; to Mineral Creek, AK, NDB.

* * * * *

Paragraph 6009(d)—Blue Federal Airways

* * * * *

B-2 [New]

From Point Lay, AK, NDB; Cape Lisburne, AK, NDB; Hotham, AK, NDB; Tin City, AK, NDB; to Fort Davis, AK, NDB.

* * * * *

B-4 [New]

From Bishop, AK, NDB; Utopia Creek, AK, NDB; Evansville, AK, NDB; to Yukon River, AK, NDB.

B-5 [New]

From Cape Lisburne, AK, NDB; to Point Hope, AK, NDB.

* * * * *

B-8 [New]

From Shishmaref, AK, NDB; to Tin City, AK, NDB.

* * * * *

Issued in Washington, DC, on March 27, 2000.
Reginald C. Matthews,
Manager, Airspace and Rules Division.

[FR Doc. 00-8230 Filed 4-3-00; 8:45 am]

BILLING CODE 4910-13-P